DEPARTMENT OF DEFENSE

Department of the Army

[Docket ID: USA-2012-0004]

Privacy Act of 1974; System of Records

AGENCY: Department of the Army, DoD.

ACTION: Notice to delete thirteen systems of records.

SUMMARY: The Department of the Army is deleting thirteen systems of records notices in its existing inventory of record systems subject to the Privacy Act of 1974 (5 U.S.C. 552a), as amended.

DATES: This proposed action will be effective on April 6, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974 (5 U.S.C. 552a), as amended, have been published in the Federal Register and are available from the address in FOR FURTHER INFORMATION CONTACT.

The Department of the Army proposes to delete thirteen systems of records notices from its inventory of record systems subject to the Privacy Act of 1974 (5 U.S.C. 552a), as amended. The proposed deletions are not within the purview of subsection (r) of the Privacy Act of 1974 (5 U.S.C. 552a), as amended, which requires the submission of a new or altered system report.

Dated: March 1, 2012.
Aaron Siegel,
Alternate OSD Federal Register Liaison Officer, Department of Defense.

A0600-8-23 AHRC

Standard Installation/Division Personnel System (SIDPERS) (December 11, 2006, 71 FR 71537).

Reason:

The system at Army Human Resource Command (AHRC) has been deactivated and records will be transferred to the National Personal Records Center to meet the approved NARA retention of 75 years, then destroyed. Therefore, the system of records notice can be deleted.

A0600o AHRC

Army Career and Alumni Program (ACAP XXI) (January 6, 2004, 69 FR 790).

Reason:

The program has been discontinued and records have met the approved NARA retention schedule and are no longer needed and have been destroyed. Therefore, the system of records notice can be deleted.

A0601-100 AHRC

Officer Appointment Files (January 6, 2004, 69 FR 790).

Reason:

The files are no longer collected at Army Human Resource Command, records have met the approved NARA retention schedule and have been destroyed; therefore, the system of records notice can be deleted.

A0601-210 AHRC

Eligibility Determination Files (February 23, 2004, 69 FR 8183).

Reason:

The files are no longer collected at Army Human Resource Command, records have met the approved NARA retention schedule and have been destroyed; therefore, the system of records notice can be deleted.

A0601-280a AHRC

Qualitative Management Program Appeal File (January 6, 2004, 69 FR 790).

Reason:

The files are no longer collected at Army Human Resource Command and have been transferred to the National Personnel Records Center in the military members Master Personnel Record Jacket (MPRJ); therefore, the system of records notice can be deleted.

A0601-280b AHRC

Selective Reenlistment Bonus (January 6, 2004, 69 FR 790).

Reason:

The files are no longer collected at Army Human Resource Command, records have met the approved NARA retention schedule and have been destroyed; therefore, the system of records notice can be deleted.

A0602 AHRC-ARI

Behavioral and Social Sciences Research Project Files (January 6, 2004, 69 FR 790).

Reason:

The files are no longer collected at Army Human Resource Command, records have met the approved NARA retention schedule and destroyed; therefore, the system of records notice can be deleted.

A0608 AHRC

Personal Affairs Files (January 6, 2004, 69 FR 790).

Reason:

The files are no longer collected at Army Human Resource Command, have met the approved NARA retention schedule and have been destroyed; therefore, the system of records notice can be deleted.

A0614-200 AHRC

Classification and Reclassification of Soldiers (August 18, 2004, 69 FR 51271).

Reason:

The program files are no longer collected at Army Human Resource Command, have met the approved NARA retention schedule and destroyed; therefore, the system of records notice can be deleted.

A0635-200 AHRC

Separations: Administrative Board Proceedings (August 18, 2004, 69 FR 51271).

Reason:

The program has been discontinued and records have met the NARA retention schedule and have been destroyed; therefore, the system of records notice can be deleted.

A0635-40 AHRC

Temporary Disability Retirement Master List (TDRL) (August 18, 2004, 69 FR 51271).

Reason:

The program files are no longer collected at Army Human Resource Command, have met the approved NARA retention schedule and destroyed in January 2010; therefore, the system of records notice can be deleted.

A0635-5 AHRC

Separation Transaction Control/Records Transfer System (August 18, 2004, 69 FR 51271).

Reason:

The program has been deactivated at Army Human Resource Command, records have met the approved NARA retention schedule and have been destroyed; therefore, the system of records notice can be deleted.

A0635a AHRC

Combat-Related Special Compensation Files (June 5, 2008, 73 FR 32002).

Reason:

The files are no longer being collected at Army Human Resource Command, have met the approved NARA retention schedule and have been destroyed; therefore, the system of records notice can be deleted.

[FR Doc. 2012-5444 Filed 3-6-12; 8:45 am]

BILLING CODE 5001-06-P